DEPARTMENT OF HEALTH AND HUMAN SERVICES

Food and Drug Administration

[Docket Nos. FDA-2018-D-4417, FDA-2013-N-1619, FDA-2018-D-2613, FDA-2021-N-0341, FDA-2016-N-2066, FDA-2022-N-0862, and FDA-2022-N-1874]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Current Good Manufacturing Practice (CGMP): Manufacturing, Processing, Packing, and Holding of Drugs; GMP for Finished Pharmaceuticals (Including Medical Gases and Active Pharmaceutical Ingredients) | 0910-0139 | 6/30/2026
Current Good Manufacturing Practice in Manufacturing, Packaging, Labeling, or Holding Operations for Dietary Supplements | 0910-0606 | 6/30/2026
Prescription Drug Advertisements | 0910-0686 | 6/30/2026
Federal-State Food Regulatory Program Standards | 0910-0760 | 6/30/2026
Certification of Identity for Freedom of Information and Privacy Act Requests | 0910-0832 | 6/30/2026
The Real Cost Campaign Outcomes Evaluation Study: Cohort 3 (Outcomes Study) | 0910-0915 | 6/30/2026
Perceptions of Prescription Drug Products with Medication Tracking Capabilities | 0910-0916 | 6/30/2026

Dated: July 17, 2023.
Lauren K. Roth,
Associate Commissioner for Policy.

[FR Doc. 2023-15456 Filed 7-20-23; 8:45 am]

BILLING CODE 4164-01-P